DEPARTMENT OF HEALTH AND HUMAN SERVICES

Office of the Secretary

Office of Minority Health: Statement of Organization, Functions and Delegations of Authority

This notice amends Part A, Office of the Secretary, Statement of Organization, Functions, and Delegations of Authority for the U.S. Department of Health and Human Services, at Chapter AC, Office of the Assistant Secretary for Health, as last amended at 60 FR 56605-06 (November 9, 1995), 60 FR 18418—19 (April 11, 1995), 60 FR 471—473 (January 4, 1995), 58 FR 7140 (February 4, 1993), and 57 FR 13750-51 (April 7, 1992) and as established at 50 FR 50847-48 (December 12, 1985). This amendment establishes the Deputy Assistant Secretary for Minority Health as reporting directly to the Secretary and administratively supported by the Assistant Secretary for Health. The change is as follows:

I. Under Part A, Chapter AC.20, “Functions,” Section C, “Office of Minority Health,” delete the first paragraph, which begins with “The Deputy Assistant Secretary for Minority Health serves,” and replace with the following:

The Deputy Assistant Secretary for Minority Health serves as the Director of the Office of Minority Health and principal advisor to the Secretary for health program activities that address minority populations, develops policies for the improvement of the health status of minority populations, and coordinates all PHS minority health activities. The Deputy Assistant Secretary for Minority Health reports directly to the Secretary and is administratively supported by the ASH.

II. Delegations of Authority: All delegations and re-delegations of authority made to officials and employees of affected organizational components will continue in them or their successors pending further redelegations.

Dated: September 19, 2013.
Kathleen Sebelius,
Secretary.

[FR Doc. 2013-23680 Filed 9-26-13; 8:45 am]

BILLING CODE 4151-17-P